DEPARTMENT OF DEFENSE

Department of the Air Force

Intent To Grant an Exclusive Patent License

AGENCY: Department of the Air Force, DoD.

ACTION: Notice.

SUMMARY: Pursuant to the provisions of Part 404 of Title 37, Code of Federal Regulations, which implements Public Law 96-517, as amended, the Department of the Air Force announces its intention to grant Infra Red Imaging Systems, Inc., an Ohio corporation, having a place of business at 1275 Kinnear Road, Columbus, Ohio 43212, an exclusive license in any right, title and interest the Air Force has in the following:

U.S. Patent Application No. 10/421,270, filed April 23, 2003, titled “Method for Detection and Display of Extravasation and Infiltration of Fluids and Substances in Subdermal or Intradermal Tissue,” by Robert L. Crane and David M. Callard.

U.S. Patent Application No. 10/988,882, filed November 15, 2004, titled “System and Method of Detection and Localization of an Intravenous Catheter,” by Robert L. Crane and David M. Callard.

U.S. Patent Application No. 11/548,313, filed October 11, 2006, titled “Synchronization of Illumination Source and Sensor for Improved Visualization of Subcutaneous Structures,” by Robert L. Crane, Michael P. Buchin and David M. Callard.

U.S. Patent Application No. 11/548,318, filed October 11, 2006, titled “Determining Inserted Catheter End Location and Orientation,” by Robert L. Crane.

DATES: A license for this patent will be granted unless a written objection is received within fifteen (15) days from the date of publication of this Notice.

FOR FURTHER INFORMATION CONTACT: Written objection should be sent to Air Force Materiel Command Law Office, AFMCLO/JAZ, Building 11, Suite 100, 2240 B Street, Wright-Patterson AFB OH 45433-7109. Telephone: (937) 255-2838; Facsimile (937) 255-7333.

Bao-Anh Trinh,
DAF, Air Force Federal Register Liaison Officer.

[FR Doc. E7-17005 Filed 8-27-07; 8:45 am]

BILLING CODE 5001-06-P